DEPARTMENT OF COMMERCE

National Oceanic and Atmospheric Administration

0648-XG07

[I.D. 050107K]

Taking and Importing Marine Mammals; Atlantic Fleet Active Sonar Training (AFAST) Activities

AGENCY: National Marine Fisheries Service (NMFS), National Oceanic and Atmospheric Administration (NOAA), Commerce.

ACTION: Notice; receipt of application for letter of authorization; request for comments and information.

SUMMARY: NMFS has received a request from the U.S. Navy (Navy) for authorization for the take of marine mammals incidental to Atlantic Fleet Active Sonar Training (AFAST) activities conducted off the Atlantic coast and in the Gulf of Mexico for the period beginning January 2009 and ending January 2014. Pursuant to the implementing regulations of the Marine Mammal Protection Act (MMPA), NMFS is announcing our receipt of the Navy's request for the development and implementation of regulations governing the incidental taking of marine mammals and inviting information, suggestions, and comments on the Navy's application and request.

DATES: Comments and information must be received no later than April 4, 2008.

ADDRESSES: Comments on the application should be addressed to Michael Payne, Chief, Permits, Conservation and Education Division, Office of Protected Resources, National Marine Fisheries Service, 1315 East-West Highway, Silver Spring, MD 20910-3225. The mailbox address for providing email comments is PR1.050107K@noaa.gov. NMFS is not responsible for e-mail comments sent to addresses other than the one provided here. Comments sent via e-mail, including all attachments, must not exceed a 10-megabyte file size.

FOR FURTHER INFORMATION CONTACT: Jolie Harrison, Office of Protected Resources, NMFS, (301) 713-2289, ext. 166.

SUPPLEMENTARY INFORMATION:

Availability

A copy of the Navy's application may be obtained by writing to the address specified above (See ADDRESSES), telephoning the contact listed above (see FOR FURTHER INFORMATION CONTACT), or visiting the internet at: http://www.nmfs.noaa.gov/pr/permits/incidental.htm. The Navy's Draft Environmental Impact Statement (DEIS) for AFAST was made available to the public on Feb 15th, 2008, and may be viewed at http://afasteis.gcsaic.com. Because NMFS is participating as a cooperating agency in the development of the Navy's DEIS for AFAST, NMFS staff will be present at the associated public meetings and prepared to discuss NMFS' participation in the development of the EIS as well as the MMPA process for the issuance of incidental take authorizations. The dates and times of the public meetings may be viewed at: http://afasteis.gcsaic.com.

Background

In the case of military readiness activities, sections 101(a)(5)(A) and (D) of the MMPA (16 U.S.C. 1361 et seq.) direct the Secretary of Commerce (Secretary) to allow, upon request, the incidental, but not intentional taking of marine mammals by U.S. citizens who engage in a specified activity (other than commercial fishing) if certain findings are made and regulations are issued or, if the taking is limited to harassment, notice of a proposed authorization is provided to the public for review.

Authorization for incidental takings may be granted if NMFS finds that the taking will have no more than a negligible impact on the species or stock(s), will not have an unmitigable adverse impact on the availability of the species or stock(s) for subsistence uses, and that the permissible methods of taking and requirements pertaining to the mitigation, monitoring and reporting of such taking are set forth.

NMFS has defined “negligible impact” in 50 CFR 216.103 as:

an impact resulting from the specified activity that cannot be reasonably expected to, and is not reasonably likely to, adversely affect the species or stock through effects on annual rates of recruitment or survival.

With respect to military readiness activities, the MMPA defines “harassment” as:

(i) any act that injures or has the significant potential to injure a marine mammal or marine mammal stock in the wild [Level A Harassment]; or (ii) any act that disturbs or is likely to disturb a marine mammal or marine mammal stock in the wild by causing disruption of natural behavioral patterns, including, but not limited to, migration, surfacing, nursing, breeding, feeding, or sheltering, to a point where such behavioral patterns are abandoned or significantly altered [Level B Harassment].

Summary of Request

On February 1, 2008, NMFS received an application from the Navy requesting authorization for the take of 29 species of marine mammals incidental to upcoming AFAST activities to be conducted off the Atlantic coast and in the Gulf of Mexico, over the course of 5 years. These training activities are classified as military readiness activities. The Navy states that these training activities may expose some of the marine mammals present in the area to sound from various mid-frequency and high-frequency active tactical sonar sources or to underwater detonations from the Improved Extended Echo-ranging (IEER) system. The Navy requests authorization to take individuals of 29 species of marine mammals by Level B Harassment. Further, the Navy requests authorization to take 10 individual beaked whales per year by serious injury or mortality (any combination of the following species: Cuvier's beaked whales, northern beaked whales, True's beaked whales, Gervais' beaked whales, Blainsville's beaked whales, and Sowerby's beaked whales).

Specified Activities

In the application submitted to NMFS, the Navy requests authorization for take of marine mammals incidental to conducting operations utilizing mid- and high frequency active sonar sources and IEER, which consists of an explosive source sonobuoy and an air deployable active receiver. These sonar and explosive sources will be utilized during Independent Unit Level Training (single unit), Coordinated Unit Level Training and Strike Group Training (multi-unit operations), maintenance activities, and research, development, testing and evaluation (RDT&E) activities. Table 1-1 in the application lists the activity types, the equipment and platforms involved, and the duration and potential locations of the activities.

Information Solicited

Interested persons may submit information, suggestions, and comments concerning the Navy's request (see ADDRESSES). All information, suggestions, and comments related to the Navy's AFAST request and NMFS' potential development and implementation of regulations governing the incidental taking of marine mammals by the Navy's AFAST activities will be considered by NMFS in developing, if appropriate, the most effective regulations governing the issuance of letters of authorization.

Dated: February 28, 2008.
Helen M. Golde,
Deputy Director, Office of Protected Resources, National Marine Fisheries Service.

[FR Doc. E8-4261 Filed 3-4-08; 8:45 am]

BILLING CODE 3510-22-S